ENVIRONMENTAL PROTECTION AGENCY

[EPA-HQ-OLEM-2018-0390, FRL-9985-04-OEI]

Agency Information Collection Activities; Submission to OMB for Review and Approval; Comment Request; Hazardous Waste Generator Standards (Renewal)

AGENCY: Environmental Protection Agency.

ACTION: Notice.

SUMMARY: The Environmental Protection Agency (EPA) has submitted an information collection request (ICR), Hazardous Waste Generator Standards (EPA ICR No. 0820.14, OMB Control No. 2050-0035), to the Office of Management and Budget (OMB) for review and approval in accordance with the Paperwork Reduction Act. This is a proposed extension of the ICR, which is currently approved through October 31, 2018. Public comments were previously requested via the Federal Register on July 3, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 28, 2018.

ADDRESSES: Submit your comments, referencing Docket ID No. EPA-HQ-OLEM-2018-0390, to (1) EPA, either online using www.regulations.gov (our preferred method), or by email to rcra-docket@epa.gov, or by mail to: RCRA Docket (2822T), U.S. Environmental Protection Agency, 1200 Pennsylvania Avenue NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Brian Knieser, Office of Resource Conservation and Recovery (mail code 5304P), Environmental Protection Agency, 1200 Pennsylvania Ave. NW, Washington, DC 20460; telephone number: 703-347-8769; fax number: 703-308-0514; email address: knieser.brian@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In the Resource Conservation and Recovery Act of 1976 (RCRA), as amended, Congress authorized the Environmental Protection Agency (EPA) to develop and administer a national hazardous waste program. The core of the program is the regulation of hazardous waste from generation to eventual disposal, i.e., from “cradle to grave.” Sections 3001(d) and 3002 of RCRA authorize EPA to develop and promulgate regulations for generators of hazardous waste. Among other things, EPA is authorized to establish generator standards for recordkeeping, labeling, storage of wastes, use of a hazardous waste manifest system, and biennial reporting to EPA. RCRA section 3017 sets forth requirements for exporters exporting hazardous waste from the United States (e.g., notification and annual reporting requirements).

This ICR incorporates recordkeeping and reporting requirements defined in ICRs supporting two recently promulgated rules: The Hazardous Waste Generator Improvements rule of 2016 (OMB Control No. 2050-0213), and the Hazardous Waste Export-Import Revisions rule of 2016 (OMB Number 2050-0214). The Generator rule implemented a reorganization of the hazardous waste regulations. The Export-Import rule made all U.S. imports and exports of hazardous waste subject to standards equivalent to those previously promulgated in 40 CFR part 262, subpart H. In addition, EPA mandated the phased-in electronic submission of required import and export documents.

In 1980, EPA promulgated the principal elements of the generator requirements in 40 CFR part 262. These regulations have been amended on several occasions. This ICR discusses six categories of information collection requirements in part 262: Pre-transport requirements; hazardous waste storage requirements for containers, tanks, containment buildings and drip pads; air emission standards for large quantity generators; recordkeeping and reporting requirements; flexibilities for VSQGs and SQGs; and export/import requirements.

Form Numbers: None.

Respondents/affected entities: Private business or other for-profit.

Respondent's obligation to respond: Mandatory (40 CFR part 262 and 265).

Estimated number of respondents: 644,345.

Frequency of response: On occasion.

Total estimated burden: 526,989 hours per year. Burden is defined at 5 CFR 1320.03(b).

Total estimated cost: $31,367,417 per year, which includes $63,345 in annualized capital or operation & maintenance costs.

Changes in the Estimates: There is an increase of 273,470 hours in the total estimated respondent burden compared with the ICR currently approved by OMB. This increase is due primarily to changes in the universe size due to the 2016 Hazardous Waste Generators Improvements Rule.

Courtney Kerwin,
Director, Regulatory Support Division.

[FR Doc. 2018-23558 Filed 10-26-18; 8:45 am]

BILLING CODE 6560-50-P